DEPARTMENT OF JUSTICE

Notice of Lodging of Partial Consent Decree Pursuant to the Comprehensive Environmental Response Compensation and Liability Act (CERCLA)

Pursuant to Section 122(d) of CERCLA, 42 U.S.C. 9622(d), and 28 CFR 50.7, notice is hereby given that on December 12, 2005, a proposed Consent Decree (“Decree”) in United States v. Atlas Tack Corp., et al., No. 03-CV-11601 WGY, Atlas Tack Corp. v. Town of Fairhaven, No. 01-CV-10501 WGY, and United States v. Atlas Tack Corp., et al., No. 04 CV 11880 WGY, was lodged with the United States District Court for the District of Massachusetts.

In these actions, the United States, on behalf of the United States Environmental Protection Agency (“EPA”), sought to recover from the Atlas Tack Corporation (“Atlas”) and from its President, M. Leonard Lewis, the costs incurred or to be incurred by the United States in connection with the Atlas Tack Corporation Superfund Site located in Fairhaven, Massachusetts. In related litigation (which was consolidated with the United States' action), Atlas brought a contribution claim against the Town of Fairhaven (“Town”). Both Atlas and M. Leonard Lewis filed contribution counterclaims against the United States Army Corps of Engineers (“Corps”). The United States also filed a separate action against Atlas and M. Leonard Lewis seeking access to the Site and penalties for their failure to provide access to the Site.

The proposed Decree settles all the claims brought by the United States against Atlas and M. Leonard Lewis and also settles the contribution claims filed by Atlas against the Town and by Atlas and M. Leonard Lewis against the Corps. Pursuant to the Decree, Atlas and M. Leonard Lewis will pay the United States $2,335,000 in installments over a two-year period. In addition, Atlas has agreed to sell the property that it owns at the Site (the “Property”) and to pay the United States 95% of the net proceeds from the sale. Alternatively, Atlas can retain ownership of the Property and pay to the United States 95% of its fair market value. The Town has agreed to pay to the United States unpaid real estate taxes it collects with respect to the Property that are in excess of $80,000. The Corps has agreed to pay $50,000 to the Superfund.

The Department of Justice will receive, for a period of thirty (30) days from the date of this publication, written comments relating to the proposed Decree. Comments should be addressed to the Assistant Attorney General, Environmental and Natural Resources Division, Post Office Box 7611, United States Department of Justice, Washington, DC 20044-7611, and should refer to United States v. Atlas Tack Corporation, DOJ Ref. #90-11-3-06890. A copy of the comments should be sent to Donald G. Frankel, Department of Justice, Suite 616, One Gateway Center, Newton, MA 02458.

The proposed Consent Decree may be examined at the Office of the United States Attorney for the District of Massachusetts, Office of the United States Attorney, 1 Courthouse Way, John Joseph Moakley Courthouse, Boston, Massachusetts, 02210 (contact Bunker Henderson), and at the United States Environmental Protection Agency, Region 1, 1 Congress Street, Suite 1100, Boston, Massachusetts, 02114-2023 (contact Ronald Gonzalez). During the public comment period, the Consent Decree may also be examined on the following Department of Justice Web site: http://www.usdoj.gov/enrd/open.html. A copy of the Consent Decree may be also be obtained by mail from the Consent Decree Library, Post Office Box 7611, Washington, DC 20044-7611, or by faxing or e-mailing a request to Tonia Fleetwood at tonia.fleetwood@usdoj.gov or fax no. (202) 514-0097, phone confirmation number (202) 514-1547. In requesting a copy of the Decree from the Consent Decree Library, please enclose a check in the amount of $33.00 (25 cents per page reproduction costs) payable to the United States Treasury (or in the amount of $14.75 for the Decree without the Appendices).

Ronald G. Gluck,
Assistant Section Chief, Environmental Enforcement Section, Environment and Natural Resources Division.

[FR Doc. 05-24327 Filed 12-21-05; 8:45 am]

BILLING CODE 4410-15-M